DEPARTMENT OF COMMERCE

National Oceanic and Atmospheric Administration

[I.D. 041604B]

Endangered Species; File No. 1438

AGENCY: National Marine Fisheries Service (NMFS), National Oceanic and Atmospheric Administration (NOAA), Commerce.

ACTION: Issuance of permit.

SUMMARY: Notice is hereby given that Dr. Thane Wibbels, Department of Biology, University of Alabama at Birmingham, Birmingham, AL 35294-1170 has been issued a permit to take Kemp's ridley (Lepidochelys kempii), loggerhead (Caretta caretta), and green (Chelonia mydas) sea turtles for purposes of scientific research.

ADDRESSES: The permit and related documents are available for review upon written request or by appointment in the following offices:

Permits, Conservation and Education Division, Office of Protected Resources, NMFS, 1315 East-West Highway, Room 13705, Silver Spring, MD 20910; phone (301)713-2289; fax (301)713-0376;

Southeast Region, NMFS, 9721 Executive Center Drive North, St. Petersburg, FL 33702-2432; phone (727)570-5301; fax (727)570-5320.

FOR FURTHER INFORMATION CONTACT: Patrick Opay or Jennifer Skidmore, (301)713-2289.

SUPPLEMENTARY INFORMATION: On June 16, 2003 notice was published in the Federal Register (68 FR 35630) that a request for a scientific research permit to take loggerhead, Kemp's ridley and green sea turtles had been submitted by the above-named individual. The requested permit has been issued under the authority of the Endangered Species Act of 1973, as amended (ESA; 16 U.S.C. 1531 et seq.) and the regulations governing the taking, importing, and exporting of endangered and threatened species (50 CFR parts 222-226).

The permit holder will utilize tangle net methodology combined with observational surveys from boats to study sea turtles in the estuarine systems of Alabama state waters from Grand Bay to Perdido Bay. The purpose of the research is to provide a basic understanding of the abundance, location, and movement of sea turtles within these estuarine ecosystems. This research will help resource managers develop optimal management strategies for these estuaries in order to conserve and protect sea turtles and their habitat. The permit holder will take 30 Kemp's ridley, 30 loggerhead, and 30 green sea turtles annually. Turtles will be captured with a 9.9 inch (25 cm) mesh tangle net that is 731.7 feet (223 m) long by 19.7 feet (6 m) deep. Turtles will be measured, weighed, flipper tagged, blood sampled and released. A subset of five loggerhead and five Kemp's ridley sea turtles will be tagged with a sonic or satellite transmitter. The duration of this permit is 5 years.

Issuance of this permit, as required by the ESA, was based on a finding that such permit (1) was applied for in good faith, (2) will not operate to the disadvantage of the endangered species which is the subject of this permit, and (3) is consistent with the purposes and policies set forth in section 2 of the ESA.

Dated: May 6, 2004.
Stephen L. Leathery,
Chief, Permits, Conservation and Education Division, Office of Protected Resources, National Marine Fisheries Service.

[FR Doc. 04-10784 Filed 5-11-04; 8:45 am]

BILLING CODE 3510-22-S